FEDERAL COMMUNICATIONS COMMISSION

[DA 03-1812]

The International Bureau Revises and Reissues the Commission's List of Foreign Telecommunications Carriers That Are Presumed To Possess Market Power in Foreign Telecommunications Markets

AGENCY: Federal Communications Commission.

ACTION: Notice.

SUMMARY: In this document, the Commission revises and reissues its list of foreign telecommunications carriers that are presumed to possess market power in foreign telecommunications markets. Several Commission rules incorporate this list by reference. Recently the Commission updated these rules. In addition, carriers' names have changed as a result of a divestiture of national incumbent operators into regional operators. Thus, it was necessary for the Commission to revise and reissue the public notice.

FOR FURTHER INFORMATION CONTACT: Peggy Reitzel, Policy Division, International Bureau, (202) 418-1460.

SUPPLEMENTARY INFORMATION: This is a summary of the Commission's Public Notice released June 5, 2003. By this Public Notice, the International Bureau revises and reissues the Commission's “List of Foreign Telecommunications Carriers that Are Presumed to Possess Market Power in Foreign Telecommunications Markets.” The revised list of carriers reflects any corrections to carrier names that were incorrect or new names now used by the carriers since this public notice was initially released in 1999. This corrected list is identical to the list previously released, except for name changes that occurred as a result of a divestiture of national incumbent operators into regional operators. While the Commission's staff attempts to maintain current information as to the names of carriers on this list, we encourage interested parties to advise the Commission of future name changes that may occur as a result of divestiture of national incumbent operators into regional operators or for other reasons. This Public Notice also summarizes the relevant rule sections that incorporate this list by reference, including, most recently, Commission rules that govern the licensing of submarine cable systems. See Review of Commission Consideration of Applications under the Cable Landing License Act, IB Docket No. 00-106, 16 FCC Rcd 22167 (2001) (Submarine Cable Landing License Order), 67 FR 1615 (January 14, 2002).)

The revised list set forth below shall apply for purposes of implementing § 1.767(g)(5) of the rules adopted in 2001. This list shall also continue to apply for purposes of implementing the following Commission rules: § 43.51(b) (involving reporting contracts and concessions), § 63.14 (involving the prohibition on agreeing to accept special concessions), § 63.22(e) (involving the provision of switched basic services over authorized facilities-based private lines), and § 63.23(d) (involving the provision of switched basic services over authorized resold private lines).

Among the rule changes the Commission adopted in the Submarine Cable Landing License Order is a “no special concessions” rule tailored to submarine cables and applicable to all cable landing licensees authorized after the effective date of the rules. (See Submarine Cable Landing License Order, Appendix B (Final Rules), § 1.767(g)(5). For cable landing licenses granted prior to March 15, 2002, all licensees on a cable may jointly file an application with the Commission seeking a modification of the license to substitute the new “no special concessions” safeguard for the broader prohibition against exclusive arrangements traditionally imposed on cable landing licensees. (See Submarine Cable Landing License Order, 16 FCC Rcd at 22184, para. 33.)

New rule 1.767(g)(5) prohibits these licensees from accepting directly or indirectly from a foreign carrier with market power in one or more of the cable's destination markets a “special concession” as specified in the rule. Under new § 1.767(g)(5), a foreign carrier is defined as in § 63.09(d) of the Commission's rules, except that the term also is defined to include any entity that owns or controls a cable landing station in a foreign market. (See Submarine Cable Landing License Order, 16 FCC Rcd at 22221, Appendix B (Final Rules), Note to § 1.767 (the terms “affiliated” and “foreign carrier,” as used in this section, are defined as in § 63.09 except that the term “foreign carrier” also shall include any entity that owns or controls a cable landing station in a foreign market).)

For purposes of determining which foreign carriers are the subject of the requirements of § 1.767(g)(5), the new rule provides that licensees may rely on the Commission's “List of Foreign Telecommunications Carriers that Are Presumed to Possess Market Power in Foreign Telecommunications Markets.” (See Submarine Cable Landing License Order, 16 FCC Rcd at 22215, Appendix B (Final Rules), Note to § 1.767(g)(5).)

The Commission first adopted its list of foreign carriers that are presumed to possess market power in the ISP Reform Order. (See 1998 Biennial Regulatory Review—Reform of the International Settlements Policy and Associated Filing Requirements, IB Docket No. 98-148 and CC Docket No. 90-337, Report and Order and Order on Reconsideration, 14 FCC Rcd 7963 (1999) (ISP Reform Order), 64 FR 34734 (September 28, 1999).) In that proceeding, the Commission modified its rules to remove its requirement that agreements between U.S. telecommunications carriers and foreign carriers that lack market power in the foreign telecommunications market conform to the Commission's international settlements policy (ISP). The Commission's rules include a presumption that a foreign carrier does not possess market power on the foreign end of a U.S. international route if it possesses less than 50 percent market share in each of three relevant foreign product markets: international transport facilities, including cable landing station access and backhaul facilities; intercity facilities and services; and local access facilities and services on the foreign end.

The Commission stated that it would issue a list of carriers that do not qualify for this presumption. U.S. international carriers would be precluded from exchanging traffic outside of the ISP with carriers on the list unless otherwise allowed. (See List of Foreign Telecommunications Carriers that Are Presumed to Possess Market Power in Foreign Telecommunications Markets, Public Notice, 14 FCC Rcd 7038 (1999), 64 FR 34799 (June 29, 1999), Public Notice issuing initial list of foreign carriers presumed to possess market power.) U.S.-authorized carriers would also be precluded from agreeing to accept special concessions (as defined in § 63.14 of the Commission's rules) from carriers on the list unless otherwise allowed under the Commission's rules. The Commission found that this approach best advances the policy of allowing U.S. carriers to enter into arrangements with foreign carriers that lack market power with a minimum of regulatory oversight, while maintaining the ISP for certain arrangements with foreign carriers that possess market power in the foreign market.

The following list specifies particular foreign carriers that do not qualify for the presumption that a foreign carrier does not possess market power on the foreign end of a U.S. international route if it possesses less than 50 percent market share in each of three relevant foreign product markets: international transport facilities, including cable landing station access and backhaul facilities; intercity facilities and services; and local access facilities and services on the foreign end. The list is based on publicly available information, compiled from official sources, including the International Telecommunication Union. The list of “Dominant Operators” does not specifically identify all incumbent local exchange carriers that may operate in the destination markets listed below. However, all incumbent local exchange carriers that may operate in the markets are incorporated by reference on the list. (See infra “Additional carriers included on this list.”)

Interested parties may challenge the inclusion or exclusion of any carrier on the list by submitting a petition for declaratory ruling and the appropriate supporting documentation to demonstrate that a carrier included on the list lacks market power or that a carrier not included does not lack market power. This list applies only for purposes of determining those foreign carriers that are subject to our ISP, our rules on providing switched services over private lines, and the No Special Concessions rules for U.S. international common carriers and cable landing licensees. It does not apply for purposes of market power determination under § 63.10 (Regulatory classification of international carriers) or § 63.18 (Contents of applications for international common carriers). The list below will be posted on the International Bureau's World Wide Web site. (http://www.fcc.gov/ib).

Destination market | Dominant operators
Afghanistan | Ministry of Communications.
Albania | Albania Telecom.
Algeria | Ministère des Postes et Télécommunications (MPT).
Angola | Angola Telecom.
Antigua and Barbuda | Cable & Wireless.
Argentina | Telcom Argentina S.A., Telefónica de Argentina S.A.
Armenia | Armentel.
Australia | Telstra Corporation.
Austria | Post and Telekom Austria AG (PTA).
Azerbaijan | Ministry of Communication.
Bahamas | Bahamas Telecommunications Corporation (Batelco).
Bahrain | Bahrain Telecommunications Company (BATELCO).
Bangladesh | Bangladesh Telegraph & Telephone Board.
Barbados | Barbados External Telecommunications Ltd. (BET).
Belarus | Belarus Telecom.
Belgium | Belgacom.
Belize | Belize Telecommunications Ltd.
Benin | Office des postes et télécommunications (OPT).
Bermuda | Cable & Wireless Bermuda.
Bhutan | Bhutan Telecom.
Bolivia | Empresa Nacional de Telecomunicaciones S.A.
Bosnia and Herzegovina | Telecom SRPSKE Telekom Republike Srpske.
Botswana | Botswana Telecommunications Corporation (BTC).
Brazil | Embratel.
Brunei | Jabatan Telecom Brunei Darussalam (JTB).
Bulgaria | Bulgarian Telecommunications Company (BTC).
Burkina Faso | Office National des Télécommunications (ONATEL).
Burma | Myanmar Posts & Telecommunications.
Burundi | Office National des Télécommunications (ONATEL).
Cambodia | Directorate of Posts and Telecommunications (DPTK).
Cameroon | Société des Télécommunications Internationales du Cameroun (INTELCAM).
Canada | Aliant Inc., Bell Canada, Manitoba Telecom Services, SaskTel, Telus Communications.
Cape Verde | Cabo Verde Telecom Sarl.
Central African Rep. | Société Centrafricaine des Télécommunications (SOCATEL).
Chad | Société des Télécommunications Internationales du Tchad (TIT).
Chile | CTC.
China | China Telecom, China Netcom.
Colombia | Empresa Nacional de Telecomunicaciones.
Comoros | Société Nationale des Postes et Télécommunications (SNPT).
Congo | Office National des Postes et des Télécommunications (ONPT).
Costa Rica | Instituto Costariccense de Electricidad (ICE).
Côte d'Ivoire | Société Côte d'Ivoire-TELECOM (CI-TELECOM).
Croatia | Croatia Telecom (HT).
Cuba | Empresa Telecomunicaciones de Cuba S.A. (ETECSA).
Cyprus | Cyprus Telecommunications Company.
Czech Rep | SPT Telecom.
Dem. Rep. of Congo | Office Congolais des Postes et des Télécommunications (OCPT).
Denmark | Tele Danmark A/S.
Djibouti | Société Telecom International (STID).
Dominica | Telecommunications of Dominica.
Dominican Republic | Compañía Dominicana de Teléfonos (CODETEL).
Ecuador | Emetel. Andinatel. Pacifictel.
Egypt | Egypt Telecom.
El Salvador | Compañía de Telecomunicaciones de El Salvador.
Equatorial Guinea | La Sociedad Anonima de Telecomunicaciones de la Republica.
de Guinea | Guinea Ecuatorial (GETESA).
Eritrea | Telecommunications Services of Eritrea (TSE).
Estonia | Estonian Telephone Company.
Ethiopia | Ethiopian Telecommunications Corporation (ETC).
Finland | TeliaSonera.
France | France Télécom.
Gabon | Télécommunications Internationales Gabonaises (TIG).
Gambia | Gambia Telecommunications Company, Ltd. (GAMTEL).
Georgia | Georgia Telecom (GTC).
Germany | Deutsche Telekom AG.
Ghana | Ghana Telecommunications Company.
Greece | Hellenic Telecommunications Organization (OTE).
Grenada | Grenada Telecommunications.
Guatemala | Telecomunicaciones de Guatemala (Telgua).
Guinea | Société des Télécommunications de Guinée (SOTELGUI).
Guinea-Bissau | Companhia de Telecomunicaçoes da Guiné-Bissau, sarl (Guiné-Telecom).
Guyana | Guyana Telephone and Telegraph Ltd.
Haiti | Telecommunications d'Haiti S.A.M.
Holy See (Vatican City) | Telecom Italia.
Honduras | Empresa Hondureña de Telecomunicaciones.
Hong Kong | Pacific Century CyberWorks HKT.
Hungary | Hungarian Telecommunication Co. (MATAV).
Iceland | Landssiminn.
India | Videsh Sanchar Nigam Limited (VSNL).
Indonesia | PT Indosat.
Iran | Telecommunciations Company of Iran.
Iraq | Ministry of Telecommunications.
Ireland | Telecom Eireann.
Israel | Bezeq.
Italy | Telecom Italia.
Jamaica | Cable & Wireless Jamaica.
Japan | KDDI. Nippon Telegraph & Telephone Corporation (NTT).
Jordan | Jordan Telecommunications Corporation (JTC).
Kazakhstan | Kazakhtelecom.
Kenya | Telkom Kenya Limited.
Kiribati | Telecom Services Kiribati Limited.
Korea (South) | Korea Telecom.
Korea (North) | Pycompute Pyongyang.
Kuwait | Ministry of Communications.
Kyrgyszstan | Kyrgyztelecom.
Laos | Enterprise of Telecommunications Lao (ETL). Lao Shinawatra Telecom Company.
Latvia | Lattelekom.
Lebanon | Ministry of Posts and Telecommunications.
Lesotho | Lesotho Telecommunications Corporation (LTC).
Liberia | Liberia Telecommunications Corporation.
Libya | General Post and Telecommunications Company (GPTC).
Liechtenstein | Swiss Telecom PTT.
Lithuania | Lietuvos Telekom.
Luxembourg | Luxembourg PTT.
Macedonia | Makedonski Telecom (MT).
Madagascar | Telecom Malagasy (TELMA).
Malawi | Malawi Posts and Telecommunications Corporation (MPTC).
Malaysia | Telecom Malaysia.
Maldives | DHIRAAGU.
Mali | Société des Télécommunications du Mali (SOTELMA).
Malta | Telemalta Corporation.
Marshall Islands | National Telecommunications Authority.
Mauritania | Office des Postes et des Télécommunications (OPT).
Mauritius | Mauritius Telecom Limited.
Mayotte | France Télécom.
Mexico | Telefonos de Mexico (TelMex).
Micronesia | FSM Telecommunications.
Moldova | Moldtelecom.
Monaco | France Télécom.
Mongolia | Mongolia Telecommunications Company.
Morocco | Maroc Telecom.
Mozambique | Telecomunicaçoes de Moçambique.
Namibia | Telecom Namibia.
Nauru | Nauru Telcom.
Nepal | Nepal Telecommunications Corporation.
Netherlands | KPN Telecom N.V.
Netherlands Antilles | Antelecom N.V.
New Zealand | Telecom Corporation of New Zealand Ltd. (TCNZ).
Nicaragua | Enitel.
Niger | Société nigérinne des télécommunications (SONITEL).
Nigeria | Nigerian Telecomunications Limited.
Norway | Telenor AS.
Oman | General Telecommunications Organization (GTO).
Pakistan | Pakistan Telecommunications.
Palau | Palau National Communications Corporation (PNCC).
Palestine | Palestine Telecommunications Company P.L.C. (PALTEL).
Panama | INTEL.
Papua New Guinea | Post & Telecommunications Corporation.
Paraguay | Antelco.
Peru | Telefónica del Peru.
Philippines | Philippines Long Distance Telephone Company (PLDT).
Poland | Telekomunikacja Polska S.A.
Portugal | Portugal Telecom S.A.
Qatar | Qatar Public Telecommunications Corporation.
Réunion | France Télécom.
Romania | Romtelecom.
Russia | Rostelecom.
Rwanda | Rwandatel S.A. (RWANDATEL).
St. Kitts and Nevis | Cable & Wireless.
St. Lucia | Cable & Wireless.
St. Vincent and the Grenadines | Cable & Wireless.
San Marino | Telecom Italia.
Sao Tomé & Principe | Companhia Santomense de Telecomunicações, s.a.r.l. (CST).
Saudi Arabia | Saudi Telecommunications Company.
Senegal | Société Nationale des Télécommunications du Sénégal (SONATEL).
Serbia and Montenegro | Serbija Telecom.
Seychelles | Cable & Wireless (Seychelles) Ltd.
Sierra Leone | Sierra Leone Telecommunications Company (SIERRATEL).
Singapore | Singapore Telecom.
Slovakia | Slovak Telecom (ST).
Slovenia | Telekom Slovenije (TS).
Solomon Islands | Solomon Telekom Company.
Somalia | Ministry of Posts and Telecommunications.
South Africa | Telkom SA Limited.
Spain | Telefónica.
Sri Lanka | Sri Lanka Telecom.
Sudan | Sudan Telecommunications Company Ltd. (Sudatel).
Suriname | Telesur.
Swaziland | Swaziland Posts and Telecommunications Corporation (SPTC).
Sweden | TeliaSonera.
Switzerland | Swisscomm.
Syria | Syrian Telecommunications Establishment (STE).
Taiwan | Chunghwa Telecom.
Tajikistan | Tajiktelecom.
Tanzania | Tanzania Telecommunications Corporation Limited (TTCL).
Thailand | Communications Authority of Thailand (CAT).
Togo | Société des Télécommunications du Togo (TOGO TELECOM).
Trinidad and Tobago | Telecom Services of Trinidad and Tobago.
Tunisia | Tunisie Telecom.
Turkey | Turk Telekomunikasyon A.S.
Turkmenistan | Turkmentelecom.
Tuvalu | Ministry of Labor, Works and Communications.
Uganda | Uganda Telecommunications Limited (UTC).
Ukraine | Ukrtelecom.
United Arab Emirates | The Emirates Telecommunications Corp. Ltd. (Etisalat).
United Kingdom | British Telecom.
Uruguay | Administración Nacional de Telecomunicationes.
Uzbekistan | Halqaro Telecom.
Vanuatu | Vanuatu Telecom.
Venezuela | Compaņía Anónima Nacional Telífonos de Venezuela.
Vietnam | Viet Nam Post and Telecommunications Corporation (VNPT).
Western Samoa | Postal and Telecommunications Department.
Yemen | Yemen International Telecommunications Company (TELEYEMEN).
Zambia | Zambia Telecommunications Company Limited (Zamtel).
Zimbabwe | Posts and Telecommunications Corporation (PTC).

Additional Carriers Included on This List

All incumbent local exchange carriers in the destination markets above.

All carriers that control, are controlled by, or are under common control with, a carrier listed above in the particular destination market.

Federal Communications Commission.
James Ball,
Chief, Policy Division, International Bureau.

[FR Doc. 03-17245 Filed 7-8-03; 8:45 am]

BILLING CODE 6712-01-P